DEPARTMENT OF HEALTH AND HUMAN SERVICES

Office of the Secretary

[Document Identifier HHS-OS-0990-New-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before January 20, 2015.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier HHS-OS-0990-New—30D for reference.

Information Collection Request Title: National Standards for Culturally and Linguistically Appropriate Services (CLAS) in Health and Health Care: Evaluation of Awareness, Adoption, and Implementation

Abstract: The Office of Minority Health (OMH), Office of the Secretary (OS), Department of Health and Human Services (HHS) is requesting a new approval from OMB for data collection on an evaluation project entitled “National Standards for Culturally and Linguistically Appropriate Services (CLAS) in Health and Health Care: Evaluation of Awareness, Adoption, and Implementation.” The purpose of this assessment is to systematically describe and examine the awareness, knowledge, adoption, and implementation of the HHS OMH's National Standards for Culturally and Linguistically Appropriate Services in Health and Health Care (hereafter referred to as the National CLAS Standards) in a sample of health and health care organizations, and to use the resultant data to develop a preliminary, model of implementation to guide organizational adoption and implementation of the National CLAS Standards. Originally released in 2001, the HHS OMH's National CLAS Standards are a set of recommended action steps intended to advance health equity, improve quality, and help eliminate health care disparities. The National CLAS Standards, revised in 2013, are comprised of 15 Standards that provide health and health care organizations with a blueprint for successfully implementing and maintaining culturally and linguistically appropriate services.

Despite increased recognition of the National CLAS Standards as a fundamental tool for health and health care organizations to use in their efforts to become more culturally and linguistically competent, neither the original nor the enhanced National CLAS Standards have been systematically evaluated in terms of public awareness, organizational adoption and implementation, or impact on health services outcomes. There is a need, then, to collect information from health and health care organizations to understand how and to what extent the National CLAS Standards have been utilized by its intended audiences. Likely Respondents: The information to be collected as part of this assessment will come from five categories of respondents: Training and Development Specialists and Managers; Other Management; Health and Health Care Organization Executives and Managers; Health and Health Care Providers, Managers, and Support Staff; Health Care Practitioners; and Technical Staff.

Total Estimated Annualized Burden—Hours
Form name | Type of respondent | Number of respondent | Number responses per respondent | Average burden per response (hours) | Total burden (hours)
National CLAS Standards Stakeholder Interview | Training and Development Specialists and Managers; Other Management Occupations (that contributed to development of National CLAS Standards) | 21 | 1 | 45/60 | 16
CLAS Stakeholder Interview | Training and Development Specialists and Managers; Other Management Occupations (with subject matter expertise in cultural competence or cultural and linguistic appropriate services) | 21 | 1 | 1 | 21
Health and Health Care Organization Leadership Interview | Health and Health Care Organization Executives and Managers | 140 | 1 | 1 | 140
Health and Health Care Organization Staff Survey | Health and Health Care Providers, Managers, and Support Staff | 2,500 | 1 | 15/60 | 625
Health and Health Care Organization Screener Survey | Health and Health Care Organization Executives | 50,000 | 1 | 5/60 | 4,167
National CLAS Standards Experience Form | Health Care Practitioners and Technical Occupations | 240,000 | 1 | 10/60 | 40,000
Total |  |  |  |  | 44,969

Darius Taylor,
Information Collection Clearance Officer.

[FR Doc. 2014-29740 Filed 12-18-14; 8:45 am]

BILLING CODE 4150-29-P